DEPARTMENT OF LABOR

Veterans' Employment & Training Service

Proposed Collection; Comment Request

ACTION: Notice.

SUMMARY: The Department of Labor (DOL), as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Veterans' Employment & Training Service is soliciting comments concerning the proposed collection: Veteran Employment Services Survey. A copy of the proposed information collection request can be obtained by contacting the office listed below in the addresses section of this Notice.

DATES: Written comments must be submitted to the office listed in the addresses section below on or before Friday, April 4, 2008.

ADDRESSES: Ms. Ruth M. Samardick, Office of the Assistant Secretary for Veterans' Employment and Training, U.S. Department of Labor, 200 Constitution Ave., NW., Room S-1325, Washington, DC 20210, telephone (202) 693-4706, fax (202) 693-4754, e-mail samardick.ruth@dol.gov. Please use only one method of transmission for comments (mail, fax, or e-mail).

SUPPLEMENTARY INFORMATION:

I. Background

The purpose of this information collection is to learn more about veteran users of One-Stop Career Centers who do not appear to have had successful employment outcomes. The survey data collected will help determine to what extent the apparent lack of successful outcomes for veteran job seekers, as measured by the participating state's reported entered employment rate (EER), corresponds to an actual lack of success or to measurement methods. If current measurement methods are inaccurate, the collection will provide information about the nature of the problem. The survey results will be used to estimate the size of the measurement gap—the difference between the reported EER and the true EER. In estimating the true EER, we will estimate the number and percentage of veterans who are unsuccessful finding jobs.

Further, this collection will allow DOL to learn key characteristics and reasons why some veterans have difficulty or fail to find jobs, learn what services were received and what veterans thought of them, and learn what services were not received and whether they were needed.

II. Review Focus

The Department of Labor is particularly interested in comments which: Evaluate whether the proposed collection of information is necessary for the proper performance of the functions of the agency, including whether the information will have practical utility; evaluate the accuracy of the agency's estimate of the burden of the proposed collection of information, including the validity of the methodology and assumptions used; enhance the quality, utility and clarity of the information to be collected; and minimize the burden of the collection of information on those who are to respond, including through the use of appropriate automated, electronic, mechanical, or other technological collection techniques or other forms of information technology, e.g., permitting electronic submissions of responses.

III. Current Actions

The Department of Labor seeks a new approval of this information collection in order to learn more about veteran users of One-Stop Career Centers who do not appear to have had successful employment outcomes.

Type of Review: New.

Agency: Veterans' Employment & Training Service.

Title: Veteran Employment Services.

OMB Number: N/A.

Agency Number: CA-1032.

Affected Public: Individuals or households.

Total Respondents: 1,068.

Total Annual Responses: 1,068.

Average Time per Response: 15 minutes.

Estimated Total Burden Hours: 267.

Frequency: One Time.

Total Burden Cost (capital/startup): $0.

Total Burden Cost (operating/maintenance): Contractor cost of $299,955.

Comments submitted in response to this notice will be summarized and/or included in the request for Office of Management and Budget approval of the information collection request; they will also become a matter of public record.

Signed in Washington, DC, this 27th day of February 2008.
John M. McWilliam,
Deputy Assistant Secretary, Veterans Employment and Training.

[FR Doc. E8-4091 Filed 3-4-08; 8:45 am]

BILLING CODE 4510-79-P